ENVIRONMENTAL PROTECTION AGENCY

40 CFR Part 52

[WI-113-7343B; FRL-7466-7]

Approval and Promulgation of State Implementation Plans; Wisconsin

AGENCY: Environmental Protection Agency (EPA).

ACTION: Proposed rule.

SUMMARY: The EPA is proposing to approve a revision to Wisconsin's State Implementation Plan (SIP) for the attainment of the one-hour ozone standard for the Milwaukee-Racine area. This SIP revision, submitted to EPA on December 16, 2002, provides new compliance options for sources subject to the state's rules limiting emissions of nitrogen oxides (NOX) from large electricity generating units in southeast Wisconsin. Under the revised SIP, sources would have the option of complying with emissions limits on a per unit basis or complying as part of an emissions averaging plan that also includes an emissions cap. In addition, the revision creates a new categorical emissions limit for new integrated gasification combined cycled units.

In the “Rules and Regulations” section of this Federal Register, EPA is approving the state's request as a direct final rule without prior proposal, because EPA views this action as noncontroversial and anticipates no adverse comments. The rationale for approval is set forth in the direct final rule. If EPA receives no written adverse comments, EPA will take no further action on this proposed rule. If EPA receives written adverse comments, we will publish a timely withdrawal of the direct final rule in the Federal Register and inform the public that the rule will not take effect. In that event, EPA will address all relevant public comments in a subsequent final rule based on this proposed rule. In either event, EPA will not institute a second comment period on this action. Any parties interested in commenting must do so at this time.

DATES: EPA must receive comments on this action by May 12, 2003.

ADDRESSES: You should mail written comments to: Carlton T. Nash, Chief, Regulation Development Section, Air Programs Branch (AR-18J), USEPA, Region 5, 77 West Jackson Boulevard, Chicago, Illinois 60604.

A copy of the state's request is available for inspection at the above address.

FOR FURTHER INFORMATION CONTACT: Alexis Cain, Environmental Scientist, Regulation Development Section, Air Programs Branch (AR-18J), USEPA, Region 5, 77 West Jackson Boulevard, Chicago, Illinois 60604, (312) 886-7018.

SUPPLEMENTARY INFORMATION:

I. What Action Is EPA Taking Today?

II. Where Can I Find More Information About this Proposal and Corresponding Direct Final Rule?

I. What Action Is EPA Taking Today?

EPA is proposing to approve, as part of the Wisconsin ozone SIP, rules that would allow sources to use emissions averaging and an emissions cap as a option for complying with ozone season limits on emissions of NOX. These limits apply to large electricity generating units in southeast Wisconsin; EPA approved the rules setting these NOX emissions limits into Wisconsin's SIP on November 13, 2001 (66 FR 56931). The limits are expressed in mass of allowable emissions per unit of heat input (pounds per million Btu).

Emissions averaging will allow units subject to the NOX emissions limits of NR 428 of the Wisconsin Administrative Code to create emissions averaging plans in which the compliance of multiple units would be assessed collectively, based on their aggregate emissions rate. The allowable emissions rate for each unit is reduced by 0.01 pounds per million btu in determining the aggregate allowable emissions rate. Beginning in 2008, sources that participate in an emissions averaging plan must also collectively meet a NOX emissions cap that is consistent with the one-hour ozone attainment plan for southeast Wisconsin. The use of emissions averaging plans will provide compliance flexibility for NOX emissions sources, while ensuring that NOX emissions are no higher than they would have been in the absence of averaging.

II. Where Can I Find More Information About This Proposal and Corresponding Direct Final Rule?

For additional information see the direct final rule published in the rules and regulations section of this Federal Register.

Authority: 42 U.S.C. 4201 et seq.

Dated: March 6, 2003.
Jerri-Anne Garl,
Acting Regional Administrator, Region 5.

[FR Doc. 03-8535 Filed 4-9-03; 8:45 am]

BILLING CODE 6560-50-U